DEPARTMENT OF THE TREASURY

Office of Foreign Assets Control

31 CFR Part 589

Publication of Ukraine-/Russia-Related Web General Licenses 17, 18, 19, 20, 21, 22, 23, 24, and 25

AGENCY: Office of Foreign Assets Control, Treasury.

ACTION: Publication of web general licenses.

SUMMARY: The Department of the Treasury's Office of Foreign Assets Control (OFAC) is publishing nine general licenses (GLs) issued in the Ukraine-/Russia-related Sanctions program: GL 17, which was previously made available on OFAC's website and is now expired, and GLs 18, 19, 20, 21, 22, 23, 24, and 25, each of which was previously made available on OFAC's website.

DATES: GLs 17, 18, 19, 20, 21, and 22 were issued on February 21, 2022. GL 23 was issued on March 11, 2022. GL 24 was issued on March 18, 2022. GL 25 was issued on March 24, 2022. See SUPPLEMENTARY INFORMATION of this rule for additional relevant dates.

FOR FURTHER INFORMATION CONTACT: OFAC: Assistant Director for Licensing, 202-622-2480; Assistant Director for Regulatory Affairs, 202-622-4855; or Assistant Director for Sanctions Compliance & Evaluation, 202-622-2490.

SUPPLEMENTARY INFORMATION:

Electronic Availability

This document and additional information concerning OFAC are available on OFAC's website: www.treas.gov/ofac.

Background

On February 21, 2022, OFAC issued GLs 17, 18, 19, 20, 21, and 22 to authorize certain transactions prohibited by Executive Order (E.O.) 14065 of February 21, 2022, “Blocking Property of Certain Persons and Prohibiting Certain Transactions With Respect to Continued Russian Efforts to Undermine the Sovereignty and Territorial Integrity of Ukraine” (87 FR 10293, February 23, 2022). On March 11, 2022 and March 18, 2022, OFAC issued GLs 23 and 24, respectively, to authorize certain transactions prohibited by E.O. 14065. On March 24, 2022, OFAC issued GL 25 to authorize transactions prohibited by E.O. 14065 or E.O. 13685 of December 19, 2014, “Blocking Property of Certain Persons and Prohibiting Certain Transactions With Respect to the Crimea Region of Ukraine” (79 FR 77357, December 24, 2014). At the time of issuance, OFAC made GL 17, which had an expiration date of 12:01 a.m. eastern daylight time, March 23, 2022, available on its website (www.treas.gov/ofac). At the time of issuance, OFAC also made GLs 18, 19, 20, 21, 22, 23, 24, and 25 available on its website (www.treas.gov/ofac). The text of GLs 17, 18, 19, 20, 21, 22, 23, 24, and 25 is provided below.

OFFICE OF FOREIGN ASSETS CONTROL

Executive Order of February 21, 2022

Blocking Property of Certain Persons and Prohibiting Certain Transactions With Respect to Continued Russian Efforts To Undermine the Sovereignty and Territorial Integrity of Ukraine

GENERAL LICENSE NO. 17

Authorizing the Wind Down of Transactions Involving the So-Called Donetsk People's Republic or Luhansk People's Republic Regions of Ukraine

(a) Except as provided in paragraph (b) of this general license, all transactions prohibited by Executive Order (E.O.) of February 21, 2022 that are ordinarily incident and necessary to the wind down of transactions involving the so-called Donetsk People's Republic (DNR) or Luhansk People's Republic (LNR) regions of Ukraine, including the divestiture or transfer to a non-U.S. person of a U.S. person's share of ownership in any pre-February 21, 2022 investment located in the DNR or LNR regions of Ukraine, and the winding down of operations, contracts, or other agreements in effect prior to February 21, 2022 involving the exportation, reexportation, sale, or supply of goods, services, or technology to, or importation of any goods, services, or technology from, the DNR or LNR regions of Ukraine, are authorized through 12:01 a.m. eastern daylight time, March 23, 2022.

(b) This general license does not authorize any transactions involving any person blocked pursuant to E.O. of February 21, 2022 unless separately authorized.

Andrea M. Gacki,

Director, Office of Foreign Assets Control.

Dated: February 21, 2022.

OFFICE OF FOREIGN ASSETS CONTROL

Executive Order of February 21, 2022

Blocking Property of Certain Persons and Prohibiting Certain Transactions With Respect to Continued Russian Efforts To Undermine the Sovereignty and Territorial Integrity of Ukraine

GENERAL LICENSE NO. 18

Authorizing the Exportation or Reexportation of Agricultural Commodities, Medicine, Medical Devices, Replacement Parts and Components, or Software Updates to Certain Regions of Ukraine and Transactions Related to the Coronavirus Disease 2019 (COVID-19) Pandemic

(a) All transactions prohibited by Executive Order of February 21, 2022 that are ordinarily incident and necessary to: (1) the exportation or reexportation of agricultural commodities, medicine, medical devices, replacement parts and components for medical devices, or software updates for medical devices to the so-called Donetsk People's Republic (DNR) or Luhansk People's Republic (LNR) regions of Ukraine, or such other regions of Ukraine as may be determined by the Secretary of the Treasury, in consultation with the Secretary of State (collectively, the “Covered Regions”), or to persons in third countries purchasing specifically for resale to the Covered Regions; or (2) the prevention, diagnosis, or treatment of COVID-19 (including research or clinical studies relating to COVID-19) in the Covered Regions, are authorized.

(b) For the purposes of this general license, agricultural commodities, medicine, and medical devices are defined as follows:

(1) Agricultural commodities. For the purposes of this general license, agricultural commodities are:

(i) Products that fall within the term “agricultural commodity” as defined in section 102 of the Agricultural Trade Act of 1978 (7 U.S.C. 5602); and

(ii) That are intended for ultimate use in the Covered Regions as:

(A) Food for humans (including raw, processed, and packaged foods; live animals; vitamins and minerals; food additives or supplements; and bottled drinking water) or animals (including animal feeds);

(B) Seeds for food crops;

(C) Fertilizers or organic fertilizers; or

(D) Reproductive materials (such as live animals, fertilized eggs, embryos, and semen) for the production of food animals.

(2) Medicine. For the purposes of this general license, medicine is an item that falls within the definition of the term “drug” in section 201 of the Federal Food, Drug, and Cosmetic Act (21 U.S.C. 321).

(3) Medical devices. For the purposes of this general license, a medical device is an item that falls within the definition of “device” in section 201 of the Federal Food, Drug, and Cosmetic Act (21 U.S.C. 321).

Note to General License No. 18. Nothing in this general license relieves any person from compliance with any other Federal laws or requirements of other Federal agencies.

Andrea M. Gacki,

Director, Office of Foreign Assets Control.

Dated: February 21, 2022.

OFFICE OF FOREIGN ASSETS CONTROL

Executive Order of February 21, 2022

Blocking Property of Certain Persons and Prohibiting Certain Transactions With Respect to Continued Russian Efforts To Undermine the Sovereignty and Territorial Integrity of Ukraine

GENERAL LICENSE NO. 19

Authorizing Transactions Related to Telecommunications and Mail

(a)(1) Except as provided in paragraphs (a)(2) and (c) of this general license, all transactions prohibited by Executive Order (E.O.) of February 21, 2022 involving the so-called Donetsk People's Republic (DNR) or Luhansk People's Republic (LNR) regions of Ukraine, or such other regions of Ukraine as may be determined by the Secretary of the Treasury, in consultation with the Secretary of State (collectively, the “Covered Regions”), that are ordinarily incident and necessary to the receipt or transmission of telecommunications are authorized.

(2) This general license does not authorize:

(i) The provision, sale, or lease of telecommunications equipment or technology; or

(ii) The provision, sale, or lease of capacity on telecommunications transmission facilities (such as satellite or terrestrial network activity).

(b) Except as provided in paragraph (c) of this general license, all transactions of common carriers prohibited by E.O. of February 21, 2022 involving the Covered Regions that are ordinarily incident and necessary to the receipt or transmission of mail and packages are authorized.

(c) This general license does not authorize any transactions involving any person blocked pursuant to E.O. of February 21, 2022 unless separately authorized.

Andrea M. Gacki,

Director, Office of Foreign Assets Control.

Dated: February 21, 2022.

OFFICE OF FOREIGN ASSETS CONTROL

Executive Order of February 21, 2022

Blocking Property of Certain Persons and Prohibiting Certain Transactions With Respect to Continued Russian Efforts To Undermine the Sovereignty and Territorial Integrity of Ukraine

GENERAL LICENSE NO. 20

Official Business of Certain International Organizations and Entities

All transactions prohibited by Executive Order of February 21, 2022 that are for the conduct of the official business of the following entities by employees, grantees, or contractors thereof are authorized:

(a) The United Nations, including its Programmes, Funds, and Other Entities and Bodies, as well as its Specialized Agencies and Related Organizations;

(b) The International Centre for Settlement of Investment Disputes (ICSID) and the Multilateral Investment Guarantee Agency (MIGA);

(c) The African Development Bank Group, the Asian Development Bank, the European Bank for Reconstruction and Development, and the Inter-American Development Bank Group (IDB Group), including any fund entity administered or established by any of the foregoing;

(d) The International Committee of the Red Cross and the International Federation of Red Cross and Red Crescent Societies; and

(e) The Organization for Security and Co-operation in Europe.

Andrea M. Gacki,

Director, Office of Foreign Assets Control.

Dated: February 21, 2022.

OFFICE OF FOREIGN ASSETS CONTROL

Executive Order of February 21, 2022

Blocking Property of Certain Persons and Prohibiting Certain Transactions With Respect to Continued Russian Efforts To Undermine the Sovereignty and Territorial Integrity of Ukraine

GENERAL LICENSE NO. 21

Authorizing Noncommercial, Personal Remittances and the Operation of Accounts

(a)(1) All transactions prohibited by Executive Order (E.O.) of February 21, 2022 that are ordinarily incident and necessary to the transfer of noncommercial, personal remittances to or from the so-called Donetsk People's Republic (DNR) or Luhansk People's Republic (LNR) regions of Ukraine, or such other regions of Ukraine as may be determined by the Secretary of the Treasury, in consultation with the Secretary of State (collectively, the “Covered Regions”), or for or on behalf of an individual ordinarily resident in the Covered Regions are authorized, provided the transfer is not by, to, or through any person whose property and interests in property are blocked pursuant to E.O. of February 21, 2022.

Note to paragraph (a)(1). Noncommercial, personal remittances do not include charitable donations of funds to or for the benefit of an entity or funds transfers for use in supporting or operating a business, including a family-owned business.

(2) Transferring institutions may rely on the originator of a funds transfer with regard to compliance with paragraph (a)(1) of this general license, provided that the transferring institution does not know or have reason to know that the funds transfer is not in compliance with paragraph (a)(1).

(b) All transactions prohibited by E.O. of February 21, 2022 that are ordinarily incident and necessary to maintaining, operating, or closing an account of an individual ordinarily resident in the Covered Regions, other than an individual whose property and interests in property are blocked pursuant to E.O. of February 21, 2022, are authorized, provided that transactions processed through the account:

(1) Are of a personal nature and not for the benefit of an entity, including supporting or operating a business; and

(2) Do not involve transfers directly or indirectly to the Covered Regions or for the benefit of persons ordinarily resident in the Covered Regions unless authorized by paragraph (a)(1) of this general license.

Andrea M. Gacki,

Director, Office of Foreign Assets Control.

Dated: February 21, 2022.

OFFICE OF FOREIGN ASSETS CONTROL

Executive Order of February 21, 2022

Blocking Property of Certain Persons and Prohibiting Certain Transactions With Respect to Continued Russian Efforts To Undermine the Sovereignty and Territorial Integrity of Ukraine

GENERAL LICENSE NO. 22

Authorizing the Exportation of Certain Services and Software Incident to Internet-Based Communications

(a) Except as provided in paragraph (c) of this general license, all transactions prohibited by Executive Order (E.O.) of February 21, 2022 that are ordinarily incident and necessary to the exportation or reexportation, directly or indirectly, from the United States or by U.S. persons, wherever located, to persons in the so-called Donetsk People's Republic (DNR) or Luhansk People's Republic (LNR) regions of Ukraine, or such other regions of Ukraine as may be determined by the Secretary of the Treasury, in consultation with the Secretary of State (collectively, the “Covered Regions”), of services incident to the exchange of personal communications over the internet, such as instant messaging, chat and email, social networking, sharing of photos and movies, web browsing, and blogging, are authorized.

(b) Except as provided in paragraph (c) of this general license, all transactions prohibited by E.O. of February 21, 2022 that are ordinarily incident and necessary to the exportation or reexportation, directly or indirectly, from the United States or by U.S. persons, wherever located, to persons in the Covered Regions of software necessary to enable the services described in paragraph (a) of this general license is authorized, provided that such software is designated EAR99 under the Export Administration Regulations, 15 CFR parts 730 through 774 (EAR), is classified by the U.S. Department of Commerce as mass market software under Export Control Classification Number (ECCN) 5D992.c of the EAR, or, in the case of software not subject to the EAR, is not listed under any multilateral export control regime.

(c) This general license does not authorize the exportation or reexportation, directly or indirectly, of services or software with knowledge or reason to know that such services or software are intended for any person whose property and interests in property are blocked pursuant to E.O. of February 21, 2022.

Note to General License No. 22. Nothing in this general license relieves any person from compliance with any other Federal laws or requirements of other Federal agencies.

Andrea M. Gacki,

Director, Office of Foreign Assets Control.

Dated: February 21, 2022.

OFFICE OF FOREIGN ASSETS CONTROL

Executive Order 14065 of February 21, 2022

Blocking Property of Certain Persons and Prohibiting Certain Transactions With Respect to Continued Russian Efforts To Undermine the Sovereignty and Territorial Integrity of Ukraine

GENERAL LICENSE NO. 23

Certain Transactions in Support of Nongovernmental Organizations' Activities

(a) Except as provided in paragraph (c) of this general license, all transactions prohibited by Executive Order (E.O.) 14065 that are ordinarily incident and necessary to the activities described in paragraph (b) by nongovernmental organizations are authorized, including the processing and transfer of funds, payment of taxes, fees, and import duties, and purchase or receipt of permits, licenses, or public utility services.

(b) The activities referenced in paragraph (a) of this general license are as follows:

(1) Activities to support humanitarian projects to meet basic human needs in the so-called Donetsk People's Republic or Luhansk People's Republic regions of Ukraine, or such other regions of Ukraine as may be determined by the Secretary of the Treasury, in consultation with the Secretary of State (collectively, the “Covered Regions”), including drought and flood relief; food, nutrition, and medicine distribution; the provision of health services; assistance for vulnerable or displaced populations, including individuals with disabilities and the elderly; and environmental programs;

(2) Activities to support democracy building in the Covered Regions, including activities to support rule of law, citizen participation, government accountability and transparency, human rights and fundamental freedoms, access to information, and civil society development projects;

(3) Activities to support education in the Covered Regions, including combating illiteracy, increasing access to education, international exchanges, and assisting education reform projects;

(4) Activities to support non-commercial development projects directly benefiting the people of the Covered Regions, including related to health, food security, and water and sanitation; and

(5) Activities to support environmental and natural resource protection in the Covered Regions, including the preservation and protection of threatened or endangered species, responsible and transparent management of natural resources, and the remediation of pollution or other environmental damage.

(c) This general license does not authorize any transactions involving any person blocked pursuant to E.O. 14065, unless otherwise authorized.

Andrea M. Gacki,

Director, Office of Foreign Assets Control.

Dated: March 11, 2022.

OFFICE OF FOREIGN ASSETS CONTROL

Executive Order 14065 of February 21, 2022

Blocking Property of Certain Persons and Prohibiting Certain Transactions With Respect to Continued Russian Efforts To Undermine the Sovereignty and Territorial Integrity of Ukraine

GENERAL LICENSE NO. 24

Transactions Related to the Provision of Maritime Services

(a) Except as provided in paragraph (b) of this general license, all transactions prohibited by Executive Order (E.O.) 14065 related to the provision or receipt of civil maritime services performed by individuals who are ordinarily resident in the so-called Donetsk People's Republic (DNR) or Luhansk People's Republic (LNR) regions of Ukraine, or such other regions of Ukraine as may be determined by the Secretary of the Treasury, in consultation with the Secretary of State (collectively, the “Covered Regions”), are authorized, provided that:

(1) Such services are performed outside the Covered Regions; and

(2) Such services are not performed on behalf of any entity located in, or organized under the laws of, the Covered Regions.

(b) This general license does not authorize:

(1) Any new investment in the Covered Regions prohibited by E.O. 14065, unless separately authorized; or

(2) Any transactions involving any person blocked pursuant to E.O. 14065, unless separately authorized.

Andrea M. Gacki,

Director, Office of Foreign Assets Control.

Dated: March 18, 2022.

OFFICE OF FOREIGN ASSETS CONTROL

Executive Order 13685 of December 19, 2014

Blocking Property of Certain Persons and Prohibiting Certain Transactions With Respect to the Crimea Region of Ukraine

Executive Order 14065 of February 21, 2022

Blocking Property of Certain Persons and Prohibiting Certain Transactions With Respect to Continued Russian Efforts To Undermine the Sovereignty and Territorial Integrity of Ukraine

GENERAL LICENSE NO. 25

Journalistic Activities and Establishment of News Bureaus in Certain Regions of Ukraine

(a) Except as provided in paragraph (d) of this general license, news reporting organizations that are United States persons, and individuals who are United States persons regularly employed by a news reporting organization, either as journalists (including photojournalists) or as supporting broadcast or technical personnel, are authorized to engage in the following transactions in the Crimea region of Ukraine, the so-called Donetsk People's Republic (DNR) or Luhansk People's Republic (LNR) regions of Ukraine, or such other regions of Ukraine as may be determined by the Secretary of the Treasury, in consultation with the Secretary of State (collectively, the “Covered Regions”), to the extent such transactions are ordinarily incident and necessary to their journalistic activities in the Covered Regions:

(1) Hiring and compensating support staff in the Covered Regions (e.g., stringers, translators, interpreters, camera operators, technical experts, freelance producers, or drivers), persons to handle logistics, or other office personnel as needed;

(2) Leasing or renting office space;

(3) Purchasing, leasing, or renting Covered Regions-origin goods and services (e.g., mobile phones and related air time), selling such goods when no longer needed, or importing them into the United States;

(4) Renting and using telecommunications facilities in the Covered Regions and paying fees or taxes related to the dissemination of information and transmission of news feeds (e.g., fees for satellite uplink facilities, or live news feeds);

(5) Exporting and reexporting to the Covered Regions, and subsequently reexporting from the Covered Regions, equipment necessary for and ordinarily incident to journalistic activities, provided such equipment is designated as EAR99 under the Export Administration Regulations, 15 CFR parts 730 through 774 (the “EAR”), and further provided that such equipment is reexported from the Covered Regions to the United States or a third country when no longer needed for journalistic activities in the Covered Regions; and

(6) Paying for all expenses ordinarily incident and necessary to journalistic activities, including sales or employment taxes.

(b) Except as provided in paragraph (d) of this general license, news reporting organizations that are United States persons are authorized to establish and operate news bureaus in the Covered Regions and to engage in the transactions set forth in paragraph (a) of this general license to the extent such transactions are ordinarily incident and necessary to the establishment and operation of a news bureau in the Covered Regions.

(c) For the purposes of this general license, the term “news reporting organization” means an entity whose primary purpose is the gathering and dissemination of news to the general public.

(d) This general license does not authorize:

(1) Any new investment in the Covered Regions prohibited by Executive Order (E.O.) 13685 or E.O. 14065 other than as authorized in paragraphs (a) or (b), unless separately authorized; or

(2) Any transactions involving any person blocked pursuant to E.O. 13685 or E.O. 14065, unless separately authorized.

Note to General License 25. Nothing in this general license relieves any person from compliance with any other Federal laws or requirements of other Federal agencies.

Andrea M. Gacki,

Director, Office of Foreign Assets Control.

Dated: March 24, 2022.

Andrea M. Gacki,
Director, Office of Foreign Assets Control.

[FR Doc. 2022-16667 Filed 8-3-22; 8:45 am]

BILLING CODE 4810-AL-P